DEPARTMENT OF LABOR

Employment and Training Administration

TA-W-71,483, Continental Airlines, Inc., Reservations Division, Houston, TX; TA-W-71,483A, Continental Airlines, Inc., Reservations Division, Tampa, FL; TA-W-71,483B, Continental Airlines, Inc., Reservations Division, Salt Lake City, UT; Notice of Negative Determination Regarding Application for Reconsideration

By application dated May 10, 2010, the petitioners requested administrative reconsideration of the Department's determination regarding eligibility to apply for Trade Adjustment Assistance (TAA), applicable to workers and former workers of the subject firm. The determination was signed on April 16, 2010. The Department's Notice of determination was published in the Federal Register on May 20, 2010 (75 FR 28301).

Workers of Continental Airlines, Inc., Reservations Division are engaged in employment related to the supply of airline travel arrangement and reservation services.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The negative determination applicable to workers and former workers at Continental Airlines, Inc., Reservations Division, Houston, Texas, Continental Airlines, Inc., Reservations Division, Tampa, Florida, and Continental Airlines, Inc., Reservations Division, Salt Lake City, Utah, was based on the findings that the subject firm did not, during the period under investigation, shift to a foreign country the supply of airline travel arrangement and reservation services (or like or directly competitive services) or acquire from a foreign country the supply of airline travel arrangement and reservation services (or like or directly competitive services); that the workers' separation, or threat of separation, was not related to any increase in imports of the supply of airline travel arrangement and reservation services (or like or directly competitive services) or the shift/acquisition of the supply of airline travel arrangement and reservation services (or like or directly competitive services); and that the workers did not supply a service that was directly used in the production of an article or the supply of service by a firm that employed a worker group that is eligible to apply for TAA based on the afore-mentioned article or service.

In the request for reconsideration, the petitioner states that the workers of the subject firm should be eligible for TAA because the subject firm has shifted abroad the airline travel arrangement and reservation services provided by the workers. The petitioner also asserts that the subject firm has separated additional workers and more separations are anticipated at various locations throughout the United States. Additionally, the petitioner states that the subject firm facility in Denver, Colorado was not considered in the investigation.

During the initial investigation, the Department obtained information that shows that the subject firm did not shift the supply of airline travel arrangement and reservation services to a foreign country and that the worker separations were due to the diminished need for such services due to increased use of technology (on-line self-service reservations systems and electronic ticketing).

Because workers are not eligible to file a petition for locations other than the one at which they are or were employed, the petitioner's assertion that the Department should have included the Denver, Colorado location in the determination is not a basis for reconsideration.

The petitioner did not supply facts not previously considered; nor provide additional documentation indicating that there was either: (1) A mistake in the determination of facts not previously considered; or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, D.C., this 15th day of July 2010.
Del Min Amy Chen,
Certifying Officer, Division of Trade Adjustment Assistance.

[FR Doc. 2010-18185 Filed 7-23-10; 8:45 am]

BILLING CODE 4510-FN-P